SMALL BUSINESS ADMINISTRATION

[Disaster Declaration # 13586 and # 13587]

Oklahoma Disaster Number OK-00071

AGENCY: U.S. Small Business Administration.

ACTION: Amendment 5.

SUMMARY: This is an amendment of the Presidential declaration of a major disaster for the State of Oklahoma (FEMA—4117—DR), dated 05/20/2013.

Incident: Severe Storms, Tornadoes and Flooding.

Incident Period: 05/18/2013 through 06/02/2013.

Effective Date: 07/12/2013.

Physical Loan Application Deadline Date: 08/19/2013.

Eidl Loan Application Deadline Date: 02/20/2014.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for the State of Oklahoma, dated 05/20/2013 is hereby amended to extend the deadline for filing applications for physical damages as a result of this disaster to 08/19/2013.

All other information in the original declaration remains unchanged.

(Catalog of Federal Domestic Assistance Numbers 59002 and 59008)

Cynthia G. Pitts,
Acting Associate Administrator for Disaster Assistance.

[FR Doc. 2013-17934 Filed 7-25-13; 8:45 am]

BILLING CODE 8025-01-P